Title 3—

The President

Proclamation 9059 of November 19, 2013

National Child's Day, 2013

By the President of the United States of America

A Proclamation

Each year on National Child's Day, America takes time to celebrate our most precious resource. We reaffirm our commitment to giving our next generation the tools to lead, innovate, and pursue their own measure of happiness.

In the United States of America, no matter where you come from, who you are, or how you look, you should have a chance to succeed. That is why we must build ladders of opportunity for all children—including high-quality preschool, strong education in key fields like math and science, and nutritious meals that give young people the energy to focus. Through First Lady Michelle Obama's Let's Move! initiative, my Administration is helping children develop habits that will let them lead healthier lives, and we are partnering with businesses, local governments, and non-profit organizations to ensure families have the information they need to give our children the happy, healthy futures they deserve.

Yet equal opportunity cannot exist while some parents are forced to choose between buying groceries, paying the rent, or taking their children to the doctor. Under the Affordable Care Act, new health insurance options are now available to millions of Americans. Millions of families will gain access to affordable coverage options through the new Health Insurance Marketplace, including through Medicaid in those States that have chosen to expand coverage. Thanks to this law, children can no longer be denied coverage because they have a pre-existing condition. And most health plans are covering recommended preventive services for children, including developmental screenings and immunizations, without cost-sharing.

With the support of a Nation and the guidance of parents and mentors, our children can lead America into a bright new age. Today, let us strengthen our resolve to provide the opportunities their energy and creativity demand.

NOW, THEREFORE, I, BARACK OBAMA, President of the United States of America, by virtue of the authority vested in me by the Constitution and the laws of the United States, do hereby proclaim November 20, 2013, as National Child's Day. I call upon all citizens to observe this day with appropriate activities, programs, and ceremonies, and to rededicate ourselves to creating the bright future we want for our Nation's children.

IN WITNESS WHEREOF, I have hereunto set my hand this nineteenth day of November, in the year of our Lord two thousand thirteen, and of the Independence of the United States of America the two hundred and thirty-eighth.

[FR Doc. 2013-28303

Filed 11-22-13; 8:45 am]

Billing code 3295-F4